DEPARTMENT OF COMMERCE

International Trade Administration

Export Trade Certificate of Review

ACTION: Notice of application to amend an Export Trade Certificate of Review issued to independent film & television alliance.

SUMMARY: Export Trading Company Affairs (“ETCA”), International Trade Administration, Department of Commerce, has received an application to amend an Export Trade Certificate of Review (“Certificate”). This notice summarizes the proposed amendment and requests comments relevant to whether the Certificate should be issued.

FOR FURTHER INFORMATION CONTACT: Jeffrey Anspacher, Director, Export Trading Company Affairs, International Trade Administration, (202) 482-5131 (this is not a toll-free number) or e-mail at oetca@ita.doc.gov.

SUPPLEMENTARY INFORMATION: Title III of the Export Trading Company Act of 1982 (15 U.S.C. 4001-21) authorizes the Secretary of Commerce to issue Export Trade Certificates of Review. An Export Trade Certificate of Review protects the holder and the members identified in the Certificate from State and Federal Government antitrust actions and from private treble damage antitrust actions for the export conduct specified in the Certificate and carried out in compliance with its terms and conditions. Section 302(b)(1) of the Export Trading Company Act of 1982 and 15 CFR 325.6(a) require the Secretary to publish a notice in the Federal Register identifying the applicant and summarizing its proposed export conduct.

Request for Public Comments

Interested parties may submit written comments relevant to the determination whether an amended Certificate should be issued. If the comments include any privileged or confidential business information, it must be clearly marked and a non-confidential version of the comments (identified as such) should be included. Any comments not marked as privileged or confidential business information will be deemed to be non-confidential. An original and five (5) copies, plus two (2) copies of the non-confidential version, should be submitted no later than 20 days after the date of this notice to: Export Trading Company Affairs, International Trade Administration, U.S. Department of Commerce, Room 7021-B H, Washington, DC 20230. Information submitted by any person is exempt from disclosure under the Freedom of Information Act (5 U.S.C. 552). However, non-confidential versions of the comments will be made available to the applicant if necessary for determining whether or not to issue the Certificate. Comments should refer to this application as “Export Trade Certificate of Review, application number 87-8A001.”

A summary of the application for an amendment follows.

Summary of the Application:

Applicant: Independent Film & Television Alliance (“IFTA”), 10850 Wilshire Blvd., 9th Floor, Los Angeles, CA 90024.

Contact: Jerald A. Jacobs, Attorney to IFTA, Telephone: (202) 663-8011.

Application No.: 87-8A001.

Date Deemed Submitted: December 1, 2008.

The original IFTA Certificate was issued on April 10, 1987 (52 FR 12578, April 17, 1987), and last amended on August 6, 2003 (68 FR 48342, August 13, 2003).

Proposed Amendment: IFTA seeks to amend its Certificate to:

1. Change name of the Certificate holder from “American Film Marketing Association” to the new listing “Independent Film & Television Alliance”.

2. Add each of the following companies as a new “Member” of the Certificate within the meaning of section 325.2(1) of the Regulations (15 CFR 325.2(1)):

111 Pictures Ltd, London, United Kingdom.

2929 International, LLC, Beverly Hills, CA.

Action Concept Film und Stuntproduktion GmbH, Huerth/Cologne, Germany.

Alliance Group Entertainment, Las Vegas, NV.

Alpine Pictures, Inc., Burbank, CA.

American Cinema International, Van Nuys, CA.

American World Pictures, Encino, CA.

Artist View Entertainment, Inc., Studio City, CA.

AV Pictures Ltd, London, United Kingdom.

Bleiberg Entertainment, Beverly Hills, CA.

Boll AG, Mainz, Germany.

Bold Films L.P., Los Angeles, CA.

Brainstorm Media, Beverly Hills, CA.

Brightlight Pictures, Inc., Burnaby, Canada.

Capella International, Inc., Los Angeles, CA.

Celluloid Dreams, Paris, France.

Cinamour Entertainment, Encino, CA.

Cine Excel Entertainment, Inc., Gardena, CA.

Cinema Management Group, West Hollywood, CA.

Cinesavvy, Inc., Toronto, Canada.

CJ Entertainment, Inc., Seoul, Republic of (South) Korea.

Classic Media, Inc., New York, NY.

Comerica Entertainment Group, Los Angeles, CA.

ContentFilm International, London, United Kingdom.

Continental Entertainment Capital, Beverly Hills, CA.

DeAPlaneta, Barcelona, Spain.

Distribution Workshop, Kowloon Tong, Hong Kong.

E! Entertainment Television Networks, Los Angeles, CA.

Ealing Studios International, London, United Kingdom.

Echo Bridge Entertainment, Needham, MA.

Emperor Motion Pictures, Wanchai, Hong Kong.

Epic Pictures Group, Inc., Beverly Hills, CA.

Essential Entertainment, Los Angeles, CA.

EuropaCorp, Paris, France.

Fabrication Films, Los Angeles, CA.

Film Department (The), West Hollywood, CA.

First California Bank, Los Angeles, CA.

First Look Studios, Century City, CA.

Foresight Unlimited, Bel Air, CA.

Freemantle Corp. (The), Toronto, Canada.

Fries Film Group, Inc., Woodland Hills, CA.

Gaumont, Neuilly-sur-Seine, France.

GK Films LLC, Santa Monica, CA.

Golden Network Asia Limited, Kowloon, Hong Kong.

GreeneStreet Films, New York, NY.

GT Media a Gaiam Company, New York, NY.

HandMade Films International, London, United Kingdom.

Hollywood Wizard, Northridge, CA.

Hyde Park Entertainment, Sherman Oaks, CA.

ICB Entertainment Finance, Glendale, CA.

IM Global, Beverly Hills, CA.

Imageworks Entertainment International, Inc., Chatsworth, CA.

Imagi Services (USA) Limited, Sherman Oaks, CA.

Imagination Worldwide, LLC, Beverly Hills, CA.

Independent Film Sales, London, United Kingdom.

Insight Film Releasing Ltd., Vancouver, Canada.

INT Distribution, Inc., Las Vegas, NV.

Intandem Films, London, United Kingdom.

J.A. Media Ltd., Beijing, China.

K5 International GmbH, Muenchen, Germany.

Kimmel International, New York, NY.

Koan, Inc., Park City, UT.

Laguna Productions, Inc., Santa Clarita, CA.

Liberation Entertainment, Inc., Los Angeles, CA.

Little Film Company (The), Studio City, CA.

Mainline Releasing, Santa Monica, CA.

Mammoth Distribution, Encino, CA.

MarVista Entertainment, Los Angeles, CA.

Maverick Global, a division of Maverick Entertainment Group, Inc., Deerfield, FL.

Media 8 Entertainment, Sherman Oaks, CA.

Media Luna Entertainment, Cologne, Germany.

Meridian Pictures, Shanghai, China.

Myriad Pictures, Santa Monica, CA.

Neoclassics Film Ltd., Los Angeles, CA.

New Films International, Sherman Oaks, CA.

New Horizons Picture Corp., Los Angeles, CA.

NonStop Sales AB, Stockholm, Sweden.

Nordisk Film A/S, Valby, Denmark.

North by Northwest Entertainment, Spokane, WA.

Odd Lot International, Culver City, CA.

Paramount Vantage International, Los Angeles, CA.

Park Entertainment Ltd., London, United Kingdom.

Passport International Entertainment, LLC, Los Angeles, CA.

Peace Arch Entertainment, Marina Del Rey, CA.

Peninsular Media, Bucks, United Kingdom.

QED International, Los Angeles, CA.

Quantum Releasing LLC, Burbank, CA.

RHI Entertainment Distribution, LLC, New York, NY.

Rigel Entertainment, Los Angeles, CA.

Screen Capital International, Beverly Hills, CA.

Screen Media Ventures, LLC, New York, NY.

SND, Neuilly sur Seine, France.

Sobini Films, Santa Monica, CA.

Spotlight Pictures, LLC, Hollywood, CA.

Starz Media, Burbank, CA.

SteelBridge Film Works, Inc., Clearwater, FL.

Stevens Entertainment Group, Dallas, TX.

Tandem Communications, Munich, Germany.

Taurus Entertainment Company, Glendale, CA.

U.S. Bank, Los Angeles, CA.

UFO International Productions, Burbank, CA.

UK Film Council, London, United Kingdom.

Union Bank of California, Los Angeles, CA.

Vision Films, Sherman Oaks, CA.

Voltage Pictures, Los Angeles, CA.

Wachovia Bank, Los Angeles, CA.

Weinstein Company (The), New York, NY.

Wild Bunch, Paris, France.

Worldwide Film Entertainment LLC, Los Angeles, CA.

Yari Film Group, LLC, Los Angeles, CA.

York International, Sherman Oaks, CA;

3. Delete the following companies as “Members” of the Certificate:

Alliance Communications Corporation, Beverly Hills, CA.

Alliance Atlantis Communication Corp., Toronto, Canada.

Arrow Films International Inc., New York, NY.

Artisan Entertainment.

Bank of America.

Banque Paribas, Los Angeles, CA.

Behaviour Worldwide, Inc., Los Angeles, CA.

Beyond Films Ltd.

Big Bear Licensing Corporation, Inc., Los Angeles, CA.

Bonneville Worldwide Entertainment, Encino, CA.

British Film Institute.

Broadstar Entertainment Corporation, Hollywood, CA.

Buena Vista Film Sales, Burbank, CA.

Buena Vista Television.

BV International Pictures AS.

Carnaby International, London, United Kingdom.

Castle Hill Productions, Inc.

Cecchi Gori Group.

China Star Entertainment Group, TST, Kowloon, Hong Kong.

Cinema Financial Services, Inc., New York, NY.

Cinequanon Pictures International, Los Angeles, CA.

CLT-UFA, Beverly Hills, CA.

Comerica Bank—California, Los Angeles, CA.

Concorde-New Horizons Corporation, Los Angeles, CA.

Cori International: Film and Television, Los Angeles, CA.

Coutts & Co./Natwest Group, Beverly Hills, CA.

Crown International.

Discovery Communications, Inc., Bethesda, MD.

DZ Bank, London, United Kingdom.

Film Roman, Inc., Los Angeles, CA.

Filmfour International, London, United Kingdom.

Films (Guernsey) Limited.

Fleetboston Financial, Boston, MA.

Franchise Pictures LLC.

Full Moon Pictures, Hollywood, CA.

G.E.L. Productions, Los Angeles, CA.

Golden Harvest Entertainment Co., Ltd.

Good Times Entertainment, Inc., Bel Air, CA.

Hamdon Entertainment, Studio City, VA.

Han Entertainment, Hong Kong.

HBO Enterprises.

Hollywood Previews Entertainment, Inc., Santa Monica, CA.

Horizon Entertainment.

Horizon Motion Pictures, Inc.

IAC Film & Television, London, United Kingdom.

Imperial Entertainment Group, Beverly Hills, CA.

IN-Motion Pictures, Ltd.

Initial Entertainment, Los Angeles, CA.

Interlight Pictures, W. Hollywood, CA.

Intermedia, London, United Kingdom.

Intra Movies SRL, Rome, Italy.

J&M Entertainment, Los Angeles, CA.

JP Morgan.

Kevin Williams Associates, S.A.

King World Productions, Inc., New York, NY.

Lewis Horwitz Organization, Los Angeles, CA.

Lolafilms.

Lumiere International, Los Angeles, CA.

Mandate Pictures—not on current members list.

Marquee Entertainment Inc., Los Angeles, CA.

MCEG Sterling Entertainment, Los Angeles, CA.

Melrose Entertainment, Inc., Beverly Hills, CA.

Miramax International, Los Angeles, CA.

MTG Media Properties, Ltd., New York, NY.

Noble Productions, Inc., Los Angeles, CA.

North American Releasing, Inc., Vancouver, Canada.

Oasis Pictures, Los Angeles, CA.

October Films International, New York, NY.

Overseas Film Group/First Look Pictures, Los Angeles, CA.

P.C. Films Corporation.

P.M. Entertainment, Sunland, CA.

Pacific Century Bank, Encino, CA.

Pandora Cinema, Santa Monica, CA.

Pearson Television International, Los Angeles, CA.

Phoenician Entertainment, Sherman Oaks, CA.

Playboy Entertainment Group, Inc., Beverly Hills, CA.

Popcorn Movies—not on current members list.

Powerhouse Entertainment Group, Inc., Beverly Hills, CA.

Quadra Entertainment, Beverly Hills, CA.

Quixote Productions, Los Angeles, CA.

Redwood Communications, Venice, CA.

Renaissance Films, Ltd.

Republic Bank California N.A., Beverly Hills, CA.

Republic Entertainment, Inc., Los Angeles, CA.

RKO Pictures.

Rysher Entertainment, Santa Monica, CA.

Scanbox International, Inc., Studio City, CA.

Seven Arts Entertainment, Hollywood, CA.

Shapiro/Glickenhaus Ent., Studio City, CA.

Shooting Gallery, The, Beverly Hills, CA.

Silicon Valley Bank for the activities of its Entertainment Division, Los Angeles, CA.

Silver Star Film Corp., Los Angeles, CA.

Solo Entertainment Group, Inc., Beverly Hills, CA.

Spelling Films International, Los Angeles, CA.

Splendid Pictures, Inc., Bel Air, CA.

Stadtsparkasse Koeln, Entertainment Finance.

Starway International, Los Angeles, CA.

The Norkat Company Limited, Beverly Hills, CA.

Tomorrow Film Corporation.

Trident Releasing.

Trimark Pictures, Santa Monica, CA.

Trust Films (merged with Nordisk).

TVA Films, A Division of Group TVA, Inc., Montreal, Canada.

United Film Distributors, Inc., Los Angeles, CA.

Viacom Pictures/Showtime Networks, Universal City, CA.

Vine International Pictures, Ltd.

Vision International, Beverly Hills, CA.

World Films, Inc, Los Angeles, CA; and

4. Change the names of each of the following current certificate Members: Crystal Sky Communications, Los Angeles, CA to Crystal Sky Worldwide Sales, LLC, Los Angeles, CA; Liberty International Entertainment, Los Angeles, CA to Liberation Entertainment, Los Angeles, CA; Lakeshore International Corp., Hollywood, CA to Lakeshore Entertainment Group, Beverly Hills, CA; Lions Gate Films International, Los Angeles, CA to LIONSGATE, Santa Monica, CA; North by Northwest Distribution, Spokane, WA to North by Northwest Entertainment, Spokane, WA; Pathe International, Paris, France to Pathe Distribution, Paris, France; Regent Entertainment, Los Angeles, CA to Regent Worldwide Sales LLC, Los Angeles, CA; The Works, London, United Kingdom to Works International (The), London, United Kingdom.

Dated: December 9, 2008.
Jeffrey Anspacher,
Director, Export Trading Company Affairs.

[FR Doc. E8-29538 Filed 12-12-08; 8:45 am]

BILLING CODE 3510-DR-P